DEPARTMENT OF COMMERCE

National Oceanic and Atmospheric Administration

[RTID 0648-XC085]

East Coast Fisheries of the United States; Public Meeting

AGENCY: National Marine Fisheries Service (NMFS), National Oceanic and Atmospheric Administration (NOAA), Commerce.

ACTION: Notice; public meeting.

SUMMARY: Several fishery management bodies on the East Coast of the United States are convening a public workshop to continue work on an initiative called East Coast Climate Change Scenario Planning. This is a joint effort of the Atlantic States Marine Fisheries Commission, the New England Fishery Management Council, the Mid-Atlantic Fishery Management Council, the South Atlantic Fishery Management Council, and NOAA's National Marine Fisheries Service. See SUPPLEMENTARY INFORMATION for agenda details.

DATES: The meeting will be held Tuesday, June 21, 2022 through Thursday, June 23, 2022.

ADDRESSES: The meeting will be held at the DoubleTree by Hilton Hotel Crystal City, 300 Army Navy Drive, Arlington, VA 22202; telephone: (703) 416-4100. The meeting will be partially streamed by webinar for portions of the agenda that are held in plenary. Connection information will be posted to the calendar prior to the meeting at www.mafmc.org.

FOR FURTHER INFORMATION CONTACT: Christopher M. Moore, Ph.D., Executive Director, Mid-Atlantic Fishery Management Council, telephone: (302) 526-5255.

SUPPLEMENTARY INFORMATION: Climate change is a growing threat for marine fisheries worldwide. On the East coast of the United States, some species have already experienced considerable climate-related changes in distribution, abundance, and/or productivity. These changes have the potential to strain fisheries management and governance systems. Through the East Coast Climate Change Scenario Planning Initiative, fishery scientists and managers are working collaboratively and engaging diverse fishery stakeholders to explore jurisdictional and governance issues related to climate change.

The next phase of this initiative will be a 2.5-day Scenario Creation Workshop, to be held in Arlington, VA, from June 21-23, 2022. Through a series of conversations and exercises, participants will create a set of scenarios that describe how climate change might affect East Coast fisheries in the next 20 years. Each scenario will describe a different way in which changing oceanographic, biological, and social/economic conditions could combine to create future challenges and opportunities for East Coast fisheries.

Day 1 of the workshop will be spent reviewing the work to date (i.e., what is likely to shape East Coast fisheries in the next 20 years, and how confident are we about predictions) and then numerous small groups will each create their own “mini-scenarios” (quick-fire stories about what might happen in the next 20 years). This will result in a large number of possible scenario stories. Day 2 will start by focusing on the range of mini-scenarios and discussing any patterns. Through facilitated conversations and suggestions, the full group will emerge with a scenario framework (or small number of scenarios) to explore in more detail. The rest of the day will be spent with small groups working on devising the details of a particular scenario, and also reviewing the ideas emerging from other groups. At the end of Day 2, we will have a candidate scenario framework and basic stories. Day 3 will be spent in plenary, with participants working to ensure that each scenario story is plausible, challenging, relevant, memorable and divergent—and that the Core Team has a clear idea of what additional work is needed to further develop the scenarios.

Approximately 75 workshop participants have been selected in advance to represent a broad range of stakeholder groups and East Coast regions. Others attending the meeting in person are invited to observe the plenary discussions and to provide comments during designated public comment opportunities. Plenary sessions only will be broadcast by webinar. Participants on the webinar will be able to provide input through a chat function and these comments will be summarized and reported out to workshop participants to the extent practicable. Additional details about the workshop will be posted to this page once available: https://www.mafmc.org/climate-change-scenario-planning.

The draft scenarios resulting from this workshop will be further refined later this summer and will feed into the Applications Phase of the initiative. During the Applications Phase, participating organizations will generate ideas and offer solutions to the challenges highlighted in the initiative, exploring what the different scenarios mean for future fishery management and governance and reaching conclusions about any recommendations for changes.

Special Accommodations

These meetings are physically accessible to people with disabilities. Requests for sign language interpretation or other auxiliary aid should be directed to Shelley Spedden, (302) 526-5251, at least 5 days prior to the meeting date.

(Authority: 16 U.S.C. 1801 et seq.)

Dated: May 26, 2022.
Tracey L. Thompson,
Acting Deputy Director, Office of Sustainable Fisheries, National Marine Fisheries Service.

[FR Doc. 2022-11797 Filed 6-1-22; 8:45 am]

BILLING CODE 3510-22-P